DEPARTMENT OF TRANSPORTATION

Surface Transportation Board

[STB Finance Docket No. 34796]

Iowa Interstate Railroad, Ltd.—Sublease Exemption—CSX Transportation, Inc.

AGENCY: Surface Transportation Board.

ACTION: Petition for exemption.

SUMMARY: The Board grants an exemption, under 49 U.S.C. 10502, from the prior approval requirements of 49 U.S.C. 10902 for Iowa Interstate Railroad, Ltd. (IAIS), a Class II carrier, to sublease from CSX Transportation, Inc. (CSXT), and operate a line of railroad totaling approximately 31.9 miles. The rail line, presently leased and operated by CSXT extends from milepost BIF 95, in Utica, IL, to milepost BIF 126.9, in Henry, IL.

DATES: This exemption will be effective on February 3, 2006. Petitions to stay must be filed by January 25, 2006. Petitions to reopen must be filed by February 7, 2006.

ADDRESSES: Send an original and 10 copies of all pleadings, referring to STB Finance Docket No. 34796, to: Surface Transportation Board, 1925 K Street, NW., Washington, DC 20423-0001. In addition, one copy of each pleading must be served on Edward J. Krug, Krug Law Firm, P.L.C., 401 First Street, SE., P.O. Box 186, Cedar Rapids, IA 52406-0186.

FOR FURTHER INFORMATION CONTACT: Eric S. Davis, (202) 565-1608 [Assistance for the hearing impaired is available through the Federal Information Relay Service (FIRS) at 1-800-877-8339].

SUPPLEMENTARY INFORMATION: Additional information is contained in the Board's decision. To purchase a copy of the full decision, write to, e-mail or call: ASAP Document Solutions, 9332 Annapolis Rd., Suite 103, Lanham, MD 20706; e-mail asapdc@verizon.net; telephone (202) 306-4004. [Assistance for the hearing impaired is available through FIRS at 1-800-877-8339].

Board decisions and notices are available on our Web site at http://www.stb.dot.gov.

Decided: January 10, 2006.
By the Board, Chairman Buttrey and Vice Chairman Mulvey.
Vernon A. Williams,
Secretary.

[FR Doc. E6-421 Filed 1-17-06; 8:45 am]

BILLING CODE 4915-01-P